DEPARTMENT OF VETERANS AFFAIRS

[OMB Control No. 2900-0227]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to determine whether VA is providing quality of health-care services to its patients.

DATES: Written comments and recommendations on the proposed collection of information should be received on or before March 27, 2006.

ADDRESSES: Submit written comments on the collection of information to Ann W. Bickoff (193E1), Department of Veterans Affairs, 810 Vermont Avenue, NW., Washington, DC 20420 or e-mail: ann.bickoff@hq.med.va.gov. Please refer to “OMB Control No. 2900-0227” in any correspondence.

FOR FURTHER INFORMATION CONTACT: Ann W. Bickoff at (202) 273-8310 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Nation-wide Customer Satisfaction Surveys.

a. Survey of Healthcare Experiences of Patients Recently Discharged Inpatient, VA Form 10-1465-1.

b. Survey of Healthcare Experiences of Patients Ambulatory Care, VA Form 10-1465-3.

c. About Your VA Prosthetics Care and Service, VA Form 10-0142b.

d. Survey on Your VA Home Based Primary Care (HBPC), VA Form 10-1465-9.

e. Customer Satisfaction Survey for Nutritional and Food Service, VA Form 10-5387.

OMB Control Number: 2900-0227.

Type of Review: Extension of a currently approved collection.

Abstract: VA Forms 10-0142b, 10-1465-1, 10-1465-3, 10-1465-9, and 10-5387 will be used to survey customers regarding their satisfaction with VA's healthcare services. VA will use the data collected to identify areas where attention is needed and to improve its quality of health care services provided to veterans.

Affected Public: Individuals or households.

Estimated Annual Burden: 200,507 hours.

a. Survey of Healthcare Experiences of Patients Recently Discharged Inpatient, VA Form 10-1465-1—37,500.

b. Survey of Healthcare Experiences of Patients Ambulatory Care, VA Form 10-1465-3—153,300.

c. About your VA Prosthetics Care and Service, VA Form 10-0142b—4,320. d. Survey on Your Home Based Primary Care (HBPC), VA Form 10-1465-9—1,200.

e. Customer Satisfaction Survey for Nutritional and Food Service, VA Form 10-5387—4,187.

Estimated Average Burden Per Respondent:

a. Survey of Healthcare Experiences of Patients Recently Discharged Inpatient, VA Form 10-1465-1—30 minutes.

b. Survey of Healthcare Experiences of Patients Ambulatory Care, VA Form 10-1465-3—30 minutes.

c. About your VA Prosthetics Care and Service, VA Form 10-0142b—24 minutes.

d. Survey on Your Home Based Primary Care, VA Form 10-1465-9—15 minutes.

e. Customer Satisfaction Survey Nutritional and Food Service, VA Form 10-5387—2 minutes.

Frequency of Response: On occasion.

Estimated Number of Respondents: 439,400.

a. Survey of Healthcare Experiences of Patients Recently Discharged Inpatient, VA Form 10-1465-1—75,000.

b. Survey of Healthcare Experiences of Patients Ambulatory Care, VA Form 10-1465-3—306,600.

c. About your VA Prosthetics Care and Service, VA Form 10-0142b—21,600.

d. Survey on Your Home Based Primary Care, VA Form 10-1465-9—4,800.

e. Customer Satisfaction Survey Nutritional and Food Service, VA Form 10-5387—31,400.

Estimated Total Annual Responses:

a. Survey of Healthcare Experiences of Patients Recently Discharged Inpatient, VA Form 10-1465-1—75,000.

b. Survey of Healthcare Experiences of Patients Ambulatory Care, VA Form 10-1465-3—306,600.

c. About your VA Prosthetics Care and Service, VA Form 10-0142b—10,800.

d. Survey on Your Home Based Primary Care, VA Form 10-1465-9—4,800.

e. Customer Satisfaction Survey Nutritional and Food Service, VA Form 10-5387—125,600.

Dated: January 17, 2006.
By direction of the Secretary:
Denise McLamb,
Program Analyst, Records Management Service.

[FR Doc. E6-1011 Filed 1-25-06; 8:45 am]

BILLING CODE 8320-01-P